DEPARTMENT OF HEALTH AND HUMAN SERVICES

Administration for Children and Families

[Program Announcement No. ACYF/HS-2003-16]

Fiscal Year 2003 Discretionary Announcement for Head Start—Higher Education Hispanic/Latino Service Partnerships: Availability of Funds and Request for Applications

Correction

In notice document 03-18166 beginning on page 43120 in the issue of Monday, July 21, 2003 make the following correction:

On page 43120, in the first column, in the DATES section, in the fourth line, “August 18, 2003” should read “August 20, 2003”.

[FR Doc. C3-18166 Filed 7-30-03; 8:45 am]

BILLING CODE 1505-01-D